DEPARTMENT OF JUSTICE

Notice of Extension of Public Comment Period for Consent Decree Under the Comprehensive Environmental Response, Compensation, and Liability Act

On July 23, 2019, the Department of Justice lodged a proposed Consent Decree with the United States District Court for the Northern District of Alabama in the lawsuit entitled United States of America v. MRC Holdings, Inc. (“MRC”), Civil Action No. 2:19-cv-01153-CLM. At the request of members of the public, DOJ is extending the public comment period for an additional 30 days.

This case relates to alleged releases of hazardous substances, including PCBs, at the Anniston, Alabama PCB Hazardous Waste Site located in and around Anniston, Alabama. The Consent Decree requires MRC to undertake injunctive measures to remediate specific parcels of property identified in the Consent Decree where hazardous substances are located. More specifically, the Consent Decree requires the Defendant to perform a remedial design and remedial action at those properties in accordance with a Record of Decision issued by the Environmental Protection Agency (“EPA”) and Statement of Work attached to the Consent Decree as Appendix A. In addition, MRC is required under the Consent Decree to reimburse EPA for both past and future response costs.

Notice of the lodging of the decree was originally published in the Federal Register on July 31, 2019. See 84 FR 147, pages 37336-37 (July 31, 2019). The publication of the original notice opened a thirty (30) day period for public comment on the Decree. The publication of the present notice extends the period for public comment on the Decree to September 30, 2019.

All comments must be submitted no later than September 30, 2019. Comments may be submitted either by email or by mail and should refer to United States of America v. MRC Holdings, Inc., and the D.J. Ref. No. 90-11-2-07135/15:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury for the Consent Decree and $15.00 for the Consent Decree and Exhibits thereto.

Henry S. Friedman,
Assistant Section Chief, Environmental Enforcement Section, Environment and Natural Resources Division.

[FR Doc. 2019-19588 Filed 9-10-19; 8:45 am]

BILLING CODE 4410-15-P